ENVIRONMENTAL PROTECTION AGENCY

[FRL-10002-73-OMS]

Senior Executive Service Performance Review Board; Membership

AGENCY: U.S. Environmental Protection Agency (EPA).

ACTION: Notice.

SUMMARY: Notice is hereby given of the membership of the U.S. Environmental Protection Agency (EPA) Performance Review Board for 2019.

FOR FURTHER INFORMATION CONTACT: Lizabeth Engebretson, Deputy Director, Policy, Planning & Training Division, 3601M, Office of Human Resources, Office of Mission Support, U.S. Environmental Protection Agency, 1200 Pennsylvania Avenue NW, Washington, DC 20460, (202) 564-0804.

SUPPLEMENTARY INFORMATION: Section 4314(c)(1) through (5) of Title 5, U.S.C., requires each agency to establish in accordance with regulations prescribed by the Office of Personnel Management, one or more SES performance review boards. This board shall review and evaluate the initial appraisal of a senior executive's performance by the supervisor, along with any recommendations to the appointment authority relative to the performance of the senior executive.

Members of the 2019 EPA Performance Review Board are:

Barry Breen, Principal Deputy Assistant Administrator, Office of Land and Emergency Management

John Blevins, Director, Laboratory Services & Applied Science Division, Region 4

David Bloom, Deputy Chief Financial Officer, Office of the Chief Financial Officer

Richard Buhl, Director, Mission Support Division, Region 8

Wesley Carpenter, Deputy Assistant Administrator for Administration and Resources Management, Office of Mission Support

Katrina Cherry, Director, Office of Management and International Services, Office of International and Tribal Affairs

Edward Chu, Deputy Regional Administrator, Region 7

Kevin DeBell, (Ex-Officio) Acting Deputy Chief of Staff, Office of the Administrator

Jonathan Edwards, Director, Office of Radiation and Indoor Air, Office of Air and Radiation

Lizabeth Engebretson, (Ex-Officio) Deputy Director, Policy, Planning and Training Division, Office of Human Resources, Office of Mission Support

Diana Esher, Deputy Regional Administrator, Region 3

William Fisher, Associate Director, Watershed & Community Sustainability, Center for Environmental Measurement and Modeling, Office of Research and Development

Jeanneanne Gettle, Director, Water Division, Region 4

Tim Hamlin, Director, Land, Chemicals & Redevelopment Division, Region 10

Aaron Helm, Director, Office of Administration and Resources Management—Research Triangle Park, Office of Mission Support

Randy Hill, Director, Enforcement Targeting and Data Division, Office of Enforcement and Compliance Assurance

Carolyn Hoskinson, Director, Office of Underground Storage Tanks, Office of Land and Emergency Management

Deborah Jordan, Deputy Regional Administrator, Region 9

Mara J. Kamen, (Ex-Officio) Director, Office of Human Resources, Office of Mission Support

Mark Kasman, Director, Office of Regional and Bilateral Affairs, Office of International and Tribal Affairs

Arnold Layne, Deputy Director, Office of Pesticides Programs, Office of Chemical Safety and Pollution Prevention

Matthew Leopard, Director, Office of Information Management, Office of Mission Support

Rohit Mathur, Senior Atmospheric Scientist, Center for Environmental Measurement and Modeling, Office of Research and Development

James McDonald, Director, Mission Support Division, Region 6

Albert McGartland, Director, National Center for Environmental Economics, Office of the Administrator

Jennifer McLean, Director, Office of Ground Water and Drinking Water, Office of Water

John Michaud, Associate General Counsel, Solid Waste & Emergency Response Law, Office of General Counsel

Kenneth Moraff, Director, Water Division, Region 1

Tanya Mottley, Director, National Program Chemicals Division, Office of Chemical Safety and Pollution Prevention

Deborah Nagle, Director, Office of Science and Technology, Office of Water

Ed Nam, Director, Land, Chemicals & Redevelopment Division, Region 5

Duc Nguyen, Senior Debarring Official, Office of Grants and Debarment, Office of Mission Support

Jennifer Orme-Zaveleta, Principal Deputy Assistant Administrator for Science, Office of Research and Development

Robin Richardson, Principal Deputy Associate Administrator, Office of Congressional and Intergovernmental Relations, Office of the Administrator

Cecil Rodrigues, Regional Counsel, Region 3

Sylvia Quast, Regional Counsel—Region 9, Office of Enforcement and Compliance Assurance

Gregory Sayles, Director, Center for Environmental Solutions and Emergency Response, Office of Research and Development

Lorie Schmidt, Principal Associate General Counsel, Office of General Counsel

Vicki Simons, (Ex-Officio), Director, Office of Civil Rights, Office of the Administrator

Carolyn Snyder, Director, Climate Protection Partnerships Division, Office of Air and Radiation

Carol Terris, Associate Chief Financial Officer, Office of the Chief Financial Officer

Donna J. Vizian, (Ex-Officio), Principal Deputy Assistant Administrator, Office of Mission Support

Anahita Williamson, Director, Laboratory Services & Applied Science Division, Region 2

Dated: November 19, 2019.
Donna J. Vizian,
Principal Deputy Assistant Administrator, Office of Mission Support.

[FR Doc. 2019-26035 Filed 11-29-19; 8:45 am]

BILLING CODE 6560-50-P